DEPARTMENT OF JUSTICE

Notice of Lodging Proposed Consent Decree

In accordance with Departmental Policy, 28 C.F.R. 50.7, notice is hereby given that a proposed consent decree in United States v. Kenrock, Inc., John Doe, and Frank Lisa, Case No. 3:05-CV-0057 AS, was lodge with the United States District Court for the Northern District of Indiana on July 23, 2007. This proposed Consent Decree concerns a complaint filed by the United States against the Defendants pursuant to Section 301(a) of the Clean Water Act (“CWA”), 33 U.S.C. 1311(a), to obtain injunctive relief from and impose civil penalties against the Defendants for filling wetlands without a permit.

The proposed Consent Decree resolves these allegations by requiring the Defendants to restore the impacted areas and to pay a civil penalty. The Department of Justice will accept written comments relating to this proposed Consent Decree for thirty (30) days from the date of publication of this notice. Please address comments to Clifford D. Johnson, Assistant United States Attorney, 204 S. Main Street, Room M-01, South Bend, Indiana 46601 and refer to United States of America v. Kenrock, Inc., John Doe, and Frank Lisa, Case No. 3:05-CV-0057 AS.

The proposed Consent Decree may be examined at the Clerk's Office, United States District Court for the Northern District of Indiana, South Bend Division, 204 S. Main Street, South Bend, IN 46601. In addition, the proposed Consent Decree may be viewed on the World Wide Web at http://www.usdoj.gov/enrd/open.html.

Scott Schachter,
Assistant Chief, Environmental Defense Section, Environment & Natural Resources Division.

[FR Doc. 07-3748 Filed 7-31-07; 8:45 am]

BILLING CODE 4410-15-M